DEPARTMENT OF ENERGY

Federal Energy Regulatory Commission

Combined Notice of Filings

Take notice that the Commission has received the following Natural Gas Pipeline Rate and Refund Report filings:

Filings Instituting Proceedings

Docket Numbers: RP13-898-000.

Applicants: Gulf South Pipeline Company, LP.

Description: Amendment to Neg Rate Agmt (Sequent 34693-15) to be effective 5/13/2013.

Filed Date: 5/13/13.

Accession Number: 20130513-5027.

Comments Due: 5 p.m. ET 5/28/13.

Docket Numbers: RP13-899-000.

Applicants: Texas Gas Transmission, LLC.

Description: Amendment to Neg Rate Agmt (Cross Timbers 29061-3) to be effective 5/13/2013.

Filed Date: 5/13/13.

Accession Number: 20130513-5055.

Comments Due: 5 p.m. ET 5/28/13.

Docket Numbers: RP13-900-000.

Applicants: Algonquin Gas Transmission, LLC.

Description: NAESB Copyright Waiver #2 to be effective 6/13/2013.

Filed Date: 5/13/13.

Accession Number: 20130513-5056.

Comments Due: 5 p.m. ET 5/28/13.

Docket Numbers: RP13-901-000.

Applicants: Big Sandy Pipeline, LLC.

Description: NAESB Copyright Waiver #2 to be effective 6/13/2013.

Filed Date: 5/13/13.

Accession Number: 20130513-5057.

Comments Due: 5 p.m. ET 5/28/13.

Docket Numbers: RP13-902-000.

Applicants: Bobcat Gas Storage.

Description: NAESB Copyright Waiver #2 to be effective 6/13/2013.

Filed Date: 5/13/13.

Accession Number: 20130513-5063.

Comments Due: 5 p.m. ET 5/28/13.

Docket Numbers: RP13-903-000.

Applicants: Egan Hub Storage, LLC.

Description: NAESB Copyright Waiver #2 to be effective 6/13/2013.

Filed Date: 5/13/13.

Accession Number: 20130513-5075.

Comments Due: 5 p.m. ET 5/28/13.

Docket Numbers: RP13-904-000.

Applicants: East Tennessee Natural Gas, LLC.

Description: NAESB Copyright Waiver #2 to be effective 6/13/2013.

Filed Date: 5/13/13.

Accession Number: 20130513-5088.

Comments Due: 5 p.m. ET 5/28/13.

Docket Numbers: RP13-905-000.

Applicants: Gulfstream Natural Gas System, L.L.C.

Description: NAESB Copyright Waiver #2 to be effective 6/13/2013.

Filed Date: 5/13/13.

Accession Number: 20130513-5109.

Comments Due: 5 p.m. ET 5/28/13.

Docket Numbers: RP13-906-000.

Applicants: Maritimes & Northeast Pipeline, L.L.C.

Description: NAESB Copyright Waiver #2 to be effective 6/13/2013.

Filed Date: 5/13/13.

Accession Number: 20130513-5133.

Comments Due: 5 p.m. ET 5/28/13.

Docket Numbers: RP13-907-000.

Applicants: Ozark Gas Transmission, L.L.C.

Description: NAESB Copyright Waiver #2 to be effective 6/13/2013.

Filed Date: 5/13/13.

Accession Number: 20130513-5136.

Comments Due: 5 p.m. ET 5/28/13.

Docket Numbers: RP13-908-000.

Applicants: Saltville Gas Storage Company L.L.C.

Description: NAESB Copyright Waiver #2 to be effective 6/13/2013.

Filed Date: 5/13/13.

Accession Number: 20130513-5144.

Comments Due: 5 p.m. ET 5/28/13.

Docket Numbers: RP13-909-000.

Applicants: Southeast Supply Header, LLC.

Description: NAESB Copyright Waiver #2 to be effective 6/13/2013.

Filed Date: 5/13/13.

Accession Number: 20130513-5147.

Comments Due: 5 p.m. ET 5/28/13.

Docket Numbers: RP13-910-000.

Applicants: Steckman Ridge, LP.

Description: NAESB Copyright Waiver #2 to be effective 6/13/2013.

Filed Date: 5/13/13.

Accession Number: 20130513-5149.

Comments Due: 5 p.m. ET 5/28/13.

Docket Numbers: RP13-911-000.

Applicants: Texas Eastern Transmission, LP.

Description: NAESB Copyright Waiver #2 to be effective 6/13/2013.

Filed Date: 5/13/13.

Accession Number: 20130513-5151.

Comments Due: 5 p.m. ET 5/28/13.

Docket Numbers: RP13-912-000.

Applicants: Columbia Gas Transmission, LLC.

Description: Non-Conforming—VEPCO Black Start 39275 to be effective 7/1/2013.

Filed Date: 5/13/13.

Accession Number: 20130513-5160.

Comments Due: 5 p.m. ET 5/28/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-743-001.

Applicants: ANR Pipeline Company.

Description: DTCA 2013 Compliance RP13-743 to be effective 5/1/2013.

Filed Date: 5/14/13.

Accession Number: 20130514-5014.

Comments Due: 5 p.m. ET 5/28/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: May 14, 2013.
Nathaniel J. Davis, Sr.,
Deputy Secretary.

[FR Doc. 2013-11989 Filed 5-20-13; 8:45 am]

BILLING CODE 6717-01-P